DEPARTMENT OF STATE

[Public Notice 4536]

United States International Telecommunication Advisory Committee Meeting—Radiocommunication Sector (ITAC-R)

The Department of State announces a meeting of the ITAC-R. The purpose of the Committee is to advise the Department on matters related to telecommunication and information policy matters in preparation for international meetings pertaining to telecommunication and information issues.

The ITAC-R will meet to discuss matters related to the preparations for ITU-R study group meetings taking place in 2004. The ITAC-R meeting will be convened on January 29, 2004 from 2 to 4 pm, at The Boeing Company, the Harry C. Stonecipher Conference Center, 1200 Wilson Boulevard, Arlington, Virginia 22209.

Members of the public will be admitted and may join in the discussion subject to instructions of the Chair. Further information may be obtained by calling the director of the ITAC-R at 202-647-0051 or emailing to holidaycc@state.gov.

Dated: January 7, 2004.
Cecily C. Holiday,
Director, ITAC-R, International Telecommunications and Information Policy, Department of State.

[FR Doc. 04-885 Filed 1-14-04; 8:45 am]

BILLING CODE 4710-45-R